COMMITTEE FOR THE IMPLEMENTATION OF TEXTILE AGREEMENTS

Request for Public Comment on Commercial Availability Request under the United States-Singapore Free Trade Agreement (USSFTA); Correction

May 10, 2005.

In the document published in the Federal Register on May 10, 2005 (70 FR 24553), on page 24554, Column 1, line 21 in the 1st full paragraph, please change the date from “June 16, 2004” to “June 9, 2005”. Please make the same correction to the date, “June 16, 2004”, on page 24555, 3rd column, line 8 in the 1st paragraph under the table.

James C. Leonard III,
Chairman, Committee for the Implementation of Textile Agreements.

[FR Doc.E5-2438 Filed 5-13-05; 8:45 am]

BILLING CODE 3510-DS-S